COMMISSION ON CIVIL RIGHTS

Notice of Public Meeting of the Indiana Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Indiana Advisory Committee (Committee) will hold a public briefing on Thursday, February 27, 2020, for the purpose of discussing the civil rights implications of indoor and outdoor lead exposure in the state.

DATES: The meeting will be held on Thursday, February 27, 2020, from 9:00 a.m.-2:00 p.m. Eastern Time.

ADDRESSES: Ivy Technical Community College, The Event Center, 2820 N Meridian Street, Indianapolis, IN 46208.

FOR FURTHER INFORMATION CONTACT: David Barreras, DFO, at dbarreras@usccr.gov or 312-353-8311.

SUPPLEMENTARY INFORMATION: This meeting is free and open to the public. Members of the public may attend and speak to the committee at the designated time for open forum. Members of the public will be invited to make a statement as time allows. Speakers will be asked to identify themselves, the organization they are affiliated with (if any), and an email address prior to addressing the committee.

Members of the public are also entitled to submit written comments; the comments must be received within 30 days following the briefing. Written comments may be mailed to the Advisory Committee Management Unit, U.S. Commission on Civil Rights, 230 S Dearborn, Suite 2120, Chicago, IL 60604. They may also be faxed to the Commission at (312) 353-8324 or emailed to David Barreras at dbarreras@usccr.gov. Persons who desire additional information may contact the Committee Management Office at (312) 353-8311.

Records generated from this meeting may be inspected and reproduced at the Committee Management Office, as they become available, both before and after the meeting. Records of the meeting will be available via www.facadatabase.gov under the Commission on Civil Rights, Indiana Advisory Committee link. Persons interested in the work of this Committee are directed to the Commission's website, http://www.usccr.gov, or may contact the Regional Programs Unit Office at the above email or street address.

Agenda

9:00 a.m.—Welcome, Introductions, and Chair's comments

9:15 a.m.—Panel I

10:15 a.m.—Panel II

11:15 a.m.—Panel III

12:30 p.m.—Break

1:00 p.m.—Panel IV

1:45 p.m.—Open Forum

2:00 p.m.—Adjournment

Dated: February 12, 2020.
David Mussatt,
Supervisory Chief, Regional Programs Unit.

[FR Doc. 2020-03112 Filed 2-14-20; 8:45 am]

BILLING CODE P